DEPARTMENT OF HEALTH AND HUMAN SERVICES

Food and Drug Administration

Advisory Committees; Tentative Schedule of Meetings for 2005

AGENCY: Food and Drug Administration, HHS.

ACTION: Notice.

SUMMARY: The Food and Drug Administration (FDA) is announcing a tentative schedule of forthcoming meetings of its public advisory committees for 2005. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/oc/advisory/default.htm. FDA will continue to publish a Federal Register notice 15 days in advance of each upcoming advisory committee meeting, to announce the meeting (21 CFR 14.20).

The following list announces FDA's tentatively scheduled advisory committee meetings for 2005. You may also obtain up-to-date meeting information by calling the Advisory Committee Information Line, 1-800-741-8138 (301-443-0572 in the Washington, DC area).

Committee Name | Tentative Date(s) of Meetings | Advisory Committee 10-Digit Information Line Code
OFFICE OF THE COMMISSIONER
Pediatric Advisory Committee | February 14-15, June-day to be announced, November-day to be announced | 8732310001
Science Board to the Food and Drug Administration | April 15, November-day to be announced | 3014512603
CENTER FOR BIOLOGICS EVALUATION AND RESEARCH
Allergenic Products Advisory Committee | April 7 | 3014512388
Cellular, Tissue and Gene Therapies Advisory Committee (formerly Biological Response Modifiers Advisory Committee) | March 3-4, July 28-29, November 9-10 | 3014512389
Blood Products Advisory Committee | March 17-18, July 21-22, December 1-2 | 3014519516
Transmissible Spongiform Encephalopathies Advisory Committee | February 8-9, June 28-29, October 27-28 | 3014512392
Vaccines and Related Biological Products Advisory Committee | February 16-17, March 15-16, May 4-5, September 20-21, November 16-17 | 3014512391
CENTER FOR DRUG EVALUATION AND RESEARCH
Anesthetic and Life Support Drugs Advisory Committee | May 24-25, July 20-21, November 9-10 | 3014512529
Anti-Infective Drugs Advisory Committee | To Be Announced | 3014512530
Antiviral Drugs Advisory Committee | March 10-11, August 3-4 | 3014512531
Arthritis Advisory Committee | February 16-17, May 12-13, September 15-16 | 3014512532
Cardiovascular and Renal Drugs Advisory Committee | February 24, April 5-6, June 15-16, August 17-18, November 16-17 | 3014512533
Dermatologic and Ophthalmic Drugs Advisory Committee | March 24-25—Joint Meeting with Nonprescription Drugs Advisory Committee, June 2-3, October 20-21, November 3-4 | 3014512534
Drug Safety and Risk Management Advisory Committee | March 8-9—Joint Meeting with Gastrointestinal Drugs Advisory Committee, June 2-3, October 20-21, November 3-4 | 3014512535
Endocrinologic & Metabolic Drugs Advisory Committee | January 13-14—Joint Meeting with Nonprescription Drugs Advisory Committee, May 5-6, September 22-23, December 13-14 | 3014512536
Gastrointestinal Drugs Advisory Committee | March 9—Joint Meeting with Drug Safety and Risk Management Advisory Committee, March 10, October-day to be announced | 3014512538
Nonprescription Drugs Advisory Committee | January 13-14-Joint Meeting with Endocrinologic and Metabolic Drugs Advisory Committee March 23-25—Joint Meeting with Dermatologic and Ophthalmic Drugs Advisory Committee | 3014512541
Oncologic Drugs Advisory Committee | March 2-3, May 11-12, September 13-14, December 7-8 | 3014512542
Peripheral and Central Nervous System Drugs | May 4 | 3014512543
Pharmaceutical Science, Advisory Committee for (Parent Committee) | April, October—Parent Committee-days to be announced April, November—Clinical Pharmacology Subcommittee-days to be announced March, June, September—Manufacturing Subcommittee-days to be announced | 3014512539
Psychopharmacologic Drugs Advisory Committee | To be announced | 3014512544
Pulmonary-Allergy Drugs Advisory Committee | April 27-28, August 30-31, December 12-13 | 3014512545
Reproductive Health Drugs, Advisory Committee for | To be announced | 3014512537
CENTER FOR DEVICES AND RADIOLOGICAL HEALTH
Device Good Manufacturing Practice Advisory Committee | December-day to be announced | 3014512398
Medical Devices Advisory Committee (Comprised of 18 Panels)
Anesthesiology and Respiratory Therapy Devices Panel | April 25-26, November 3-4 | 3014512624
Circulatory System Devices Panel | January 13, March 17, May 19, July 21, September 22, November 17 | 3014512625
Clinical Chemistry and Clinical Toxicology Devices Panel | March 21-22, April 21-22, May 23-24, July 11-12, September 8-9, December 5-6 | 3014512514
Dental Products Panel | April 11-12, July 18-19 | 3014512518
Ear, Nose, and Throat Devices Panel | February 24-25, April 28-29, June 20-21, August 1-2, October 6-7, December 1-2 | 3014512522
Gastroenterology-Urology Devices Panel | March 4, May 3, July 22, October 21 | 3014512523
General and Plastic Surgery Devices Panel | February 7-8, June 9-10, August 25-26, November 7-8 | 3014512519
General Hospital and Personal Use Devices Panel | February 10-11, May 9-10, August 8-9, December 5-6 | 3014512520
Hematology and Pathology Devices Panel | April 29, October 21 | 3014512515
Immunology Devices Panel | May 19, November 10 | 3014512516
Medical Devices Dispute Resolution Panel | Meeting(s) scheduled as needed | 3014510232
Microbiology Devices Panel | March 31-April 1, June 16-17, September 19-20, December 8-9 | 3014512517
Molecular and Clinical Genetics Panel | April 18-19, October 17-18 | 3014510231
Neurological Devices Panel | April 28-29, June 20-21, September 22-23, December 1-2 | 3014512513
Obstetrics and Gynecology Devices Panel | March 10-11, May 16-17, August 15-16, November 14-15 | 3014512524
Ophthalmic Devices Panel | March 17-18, May 12-13, July 28-29, September 29-30, November 17-18 | 3014512396
Orthopaedic and Rehabilitation Devices Panel | January 31-February 1, April 7-8, July 25-26, November 3- 4 | 3014512521
Radiological Devices Panel | February 1, May 10, August 2, November 1 | 3014512526
National Mammography Quality Assurance Advisory Committee | April 18 | 3014512397
Technical Electronic Product Radiation Safety Standards Committee | May 18 | 3014512399
CENTER FOR FOOD SAFETY AND APPLIED NUTRITION
Food Advisory Committee—Parent | July-day to be announced | 3014510564
Additives and Ingredients Subcommittee | June-day to be announced | Do.
Biotechnology Subcommittee | July-day to be announced | Do.
Contaminants and Natural Toxicants Subcommittee | November-day to be announced | Do.
Dietary Supplements Subcommittee | To be announced | Do.
Infant Formula Subcommittee | August-day to be announced | Do.
Nutrition Subcommittee | To be announced | Do.
CENTER FOR VETERINARY MEDICINE
Veterinary Medicine Advisory Committee | January 31, May 19, October 20 | 3014512548
NATIONAL CENTER FOR TOXICOLOGICAL RESEARCH (NCTR)
Science Advisory Board to NCTR | March 30-31 | 3014512559
Advisory Committee on Special Studies Relating to the Possible Long-Term Health Effects of Phenoxy Herbicides and Contaminants | May, September, November-days to be announced | 3014512560

Dated: December 8, 2004.
Sheila Dearybury Walcoff,
Associate Commissioner for External Relations.

[FR Doc. 04-27737 Filed 12-17-04; 8:45 am]

BILLING CODE 4160-01-S